DEPARTMENT OF ENERGY

Federal Energy Regulatory Commission

[Project No. 2322-069]

Brookfield White Pine Hydro LLC; Notice of Application Tendered for Filing With the Commission and Establishing Procedural Schedule for Licensing and Deadline for Submission of Final Amendments

Take notice that the following hydroelectric application has been filed with the Commission and is available for public inspection.

a. Type of Application: New Major License.

b. Project No.: 2322-069.

c. Date Filed: January 31, 2020.

d. Applicant: Brookfield White Pine Hydro LLC (Brookfield).

e. Name of Project: Shawmut Hydroelectric Project.

f. Location: The existing project is located on the Kennebec River in Kennebec and Somerset Counties, Maine. The project does not affect federal lands.

g. Filed Pursuant to: Federal Power Act, 16 U.S.C. 791 (a)-825(r).

h. Applicant Contact: Frank Dunlap, 150 Main Street, Lewiston, Maine 04240; (207) 755-5603.

i. FERC Contact: Matt Cutlip, (503) 552-2762 or matt.cutlip@ferc.gov.

j. This application is not ready for environmental analysis at this time.

k. Project Description: The project consists of the following constructed facilities: (1) A 24-foot-high, 1,480-foot-long concrete gravity dam consisting of: (i) A 380-foot-long overflow section with hinged flashboards, (ii) a 730-foot-long overflow section with an inflatable bladder, (iii) 25-foot-wide sluice section; (iv) a non-overflow section; and (v) a headworks containing 11 headgates that regulate flow into a forebay; (2) a 1,310-acre impoundment extending about 12 miles upstream; (3) two powerhouses adjacent to the forebay, separated by a 10-foot-high by 7-foot-wide Tainter gate and a 6-foot-high by 6-foot-wide deep gate; (4) eight turbine-generating units; (5) a 300-foot-long tailrace; (6) 250-foot-long generator leads connecting the powerhouses with a substation; and (7) appurtenant facilities.

Brookfield operates the project in a run-of-river mode and implements specific operating procedure to facilitate upstream and downstream fish passage at the project. Upstream passage for American eel is provided by a dedicated eel passage facility located adjacent to one of the powerhouses. There are no constructed upstream anadromous fishways at the project. Currently anadromous fish are captured and transported upstream of the Shawmut Project via a fish lift and transport system at the Lockwood Dam Hydroelectric Project No. 2574, located about 6 miles downstream. Downstream fish passage for American eel and anadromous fish at the Shawmut Project is provided via a combination of routing flows through the project's spillways, turbines, and other flow regulating equipment (e.g., Tainter gate between the powerhouses).

l. Locations of the Application: A copy of the application is available for review at the Commission in the Public Reference Room or may be viewed on the Commission's website at http://www.ferc.gov using the “eLibrary” link. Enter the docket number excluding the last three digits in the docket number field to access the document. For assistance, please contact FERC Online Support at FERCOnlineSupport@ferc.gov, (866) 208-3676 (toll free), or (202) 502-8659 (TTY).

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | March 2020.
Filing of recommendations, preliminary terms and conditions, and fishway prescriptions | May 2020.
Commission issues Draft Environmental Assessment (EA) | November 2020.
Comments on Draft EA | December 2020.
Modified terms and conditions | February 2021.
Commission issues Final EA | May 2021.

o. Final amendments to the application must be filed with the Commission no later than thirty (30) days from the issuance date of the notice of ready for environmental analysis.

Dated: February 5, 2020.
Kimberly D. Bose,
Secretary.

[FR Doc. 2020-02900 Filed 2-12-20; 8:45 am]

BILLING CODE 6717-01-P